DEPARTMENT OF EDUCATION

[CFDA No. 84.337A]

Office of Postsecondary Education; Technological Innovation and Cooperation for Foreign Information Access Program; Notice Inviting Applications for New Awards for Fiscal Year (FY) 2002

Purpose of Program: The Technological Innovation and Cooperation for Foreign Information Access Program provides grants to support projects that will develop innovative techniques or programs using new electronic technologies to collect, organize, preserve, and widely disseminate information on world regions and countries other than the United States that address our Nation's teaching and research needs in international education and foreign languages.

Eligible Applicants: Institutions of higher education, public or nonprofit private libraries, or consortia of these institutions or libraries. applications available:

Applications Available: October 10, 2001.

Deadline for Transmittal of Applications: November 30, 2001.

Deadline for Intergovernmental Review: January 29, 2002.

Estimated Available Funds: The Administration has requested $1,300,000 for this program for FY 2002. The actual level of funding, if any, depends on final congressional action. However, we are inviting applications to allow enough time to complete the grant process, if Congress appropriates funds for this program.

Estimated Range of Awards: $105,000-$230,000.

Estimated Average Size of Awards: $216,000 per year.

Estimated Number of Awards: 6.

Note: The Department is not bound by any estimates in this notice.

Project Period: Up to 36 months.

Applicable Regulations: The Education Department General Administrative Regulations (EDGAR) in 34 CFR parts 74, 75, 77, 79, 82, 85, 86, 97, 98, and 99.

Note: The regulations in 34 CFR part 86 apply to institutions of higher education only.

Note: As there are no program-specific regulations, we encourage each potential applicant to read the authorizing statute for the Technological Innovation and Cooperation for Foreign Information Access Program in section 606 of title VI, part A, of the Higher Education Act of 1965, as amended (HEA), 20 U.S.C. 1126.

SUPPLEMENTARY INFORMATION: Matching requirement: Under section 606(d) of the HEA, the Federal share of the total cost of carrying out a program may not exceed 66\2/3\ percent. The non-Federal share of the total cost may be provided either in-kind or in cash and may include contributions from private sector corporations or foundations. Example: The estimated project cost will be $290,000 per year. The institution may request a grant of $193,314. The institution must provide the remaining $96,686 in cash or in-kind contributions.

FOR APPLICATIONS AND FURTHER INFORMATION CONTACT: Susanna Easton, Technological Innovation and Cooperation for Foreign Information Access Program, International Education and Graduate Programs Service, 1990 K Street, NW., Suite 600, Washington, DC 20006-8521. Telephone: (202) 502-7628 or via Internet: susanna.easton@ed.gov.

If you use a telecommunications device for the deaf (TDD), you may call the Federal Information Relay Service (FIRS) at 1-800-877-8339.

Individuals with disabilities may obtain this document in an alternative format (e.g., Braille, large print, audiotape, or computer diskette) on request to the program contact person listed under FOR APPLICATIONS AND FURTHER INFORMATION CONTACT.

Individuals with disabilities may obtain a copy of the application package in an alternative format by contacting that person. However, the Department is not able to reproduce in an alternative format the standard forms included in the application package.

Electronic Access to This Document

You may view this document, as well as all other Department of Education documents published in the Federal Register, in text or Adobe Portable Document Format (PDF) on the Internet at the following site: http://www.ed.gov/legislation/FedRegister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.access.gpo.gov/nara/index.html

Program Authority: 20 U.S.C. 1126.

Dated: September 25, 2001.
Maureen A. McLaughlin,
Deputy Assistant Secretary for Policy, Planning and Innovation, Office of Postsecondary Education.

[FR Doc. 01-24419 Filed 9-27-01; 8:45 am]

BILLING CODE 4000-01-U